DEPARTMENT OF HEALTH AND HUMAN SERVICES

Centers for Disease Control and Prevention

[30Day-0920-0792]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington DC or by fax to (202) 395-5806. Written comments should be received within 30 days of this notice.

Proposed Project

Environmental Health Specialists Network (EHS-NET) Program, OMB 0920-0792, expiration 10/31/2011—Revision—National Center for Environmental Health (NCEH), Centers for Disease Control and Prevention (CDC).

Background and Brief Description

The CDC is requesting OMB approval for three additional years to use this generic clearance for a research program focused on identifying the environmental causes of foodborne illness. This revision will provide OMB clearance for EHS-Net data collections conducted in 2011 through 2014 (a maximum of 3 annually). The program is revising the generic information collection request (ICR) to reduce the number of respondent groups, reduce the number of studies conducted and the estimated burden, and collect more generalizable data.

Reducing foodborne illness first requires identification and understanding of the environmental factors that cause these illnesses. We need to know how and why food becomes contaminated with foodborne illness pathogens. This information can then be used to determine effective food safety prevention methods. The purpose of this food safety research program is to identify and understand environmental factors associated with foodborne illness and outbreaks. This program will continue to involve up to 3 data collections a year. This program is conducted by the Environmental Health Specialists Network (EHS-Net), a collaborative project of CDC, FDA, USDA, and six state/local sites (CA, NYC, NY, MN, RI, and TN).

Environmental factors associated with foodborne illness include both food safety practices (e.g., inadequate cleaning practices) and the factors in the environment associated with those practices (e.g., worker and retail food establishment characteristics). To understand these factors, we need to continue to collect data from those who prepare food (i.e., food workers) and on the environments in which the food is prepared (i.e., retail food establishment kitchens). Thus, our respondents will be retail food establishment food workers.

For each data collection, we will collect data in approximately 480 retail food establishments. For each data collection, we will collect data from a maximum 1,440 workers. Each respondent will respond only once and the average burden per response will be approximately 30 minutes. We will conduct up to 3 data collections a year. The maximum annual interview/survey burden for all 3 data collections will be 2,160 hours.

We expect a worker response rate of approximately 70 percent. Thus, for each data collection, we will need to conduct a recruiting screener with approximately 2,057 worker respondents to obtain the needed number of respondents. Each respondent will respond only once and the average burden per response will be 3 minutes. As we plan to conduct up to 3 data collections annually, the maximum annual recruiting screener burden will be 309 hours. The total maximum annual burden will be 2,469 hours. There is no cost to the respondents other than their time.

Estimated Annualized Burden Hours
Type of respondents | Form name | Number of respondents | Number of responses per respondent | Average burden per response (in hours)
Retail food workers | Interview/survey | 4,320 | 1 | 30/60
Retail food workers | Recruiting screener | 6,171 | 1 | 3/60

Dated: September 15, 2011.
Daniel Holcomb,
Reports Clearance Officer, Centers for Disease Control and Prevention.

[FR Doc. 2011-24181 Filed 9-20-11; 8:45 am]

BILLING CODE 4163-18-P